OFFICE OF THE UNITED STATES TRADE REPRESENTATIVE

Generalized System of Preferences (GSP): Notice of Initiation of the 2011 Annual GSP Product and Country Practices Review; Deadlines for Filing Petitions

AGENCY: Office of the United States Trade Representative.

ACTION: Notice of procedures for submission of petitions from the public.

SUMMARY: This notice announces that the Office of the United States Trade Representative (USTR) is prepared to receive petitions to modify the list of products that are eligible for duty-free treatment under the GSP program and to modify the GSP status of certain GSP beneficiary developing countries because of country practices. The deadline for submission of country practice petitions for the 2011 Annual Review is 5 p.m., December 5, 2011. The deadline for submission of product petitions, other than those requesting competitive need limitation (CNL) waivers, is 5 p.m., December 5, 2011. The deadline for submission of petitions requesting CNL waivers is 5 p.m., Friday, December 16, 2011. Decisions on which of the petitions that are submitted are accepted for review will be announced in the Federal Register at later dates.

FOR FURTHER INFORMATION CONTACT: Tameka Cooper, GSP Program, Office of the United States Trade Representative, 600 17th Street NW., Washington, DC 20508. The telephone number is (202) 395-6971; the fax number is (202) 395-9674, and the email address is Tameka_Cooper@ustr.eop.gov.

Public versions of all documents relating to the 2011 Annual Review will be made available for public viewing in docket USTR-2011-0015 at http://www.regulations.gov upon completion of processing and no later than approximately two weeks after the relevant due date.

I. 2011 Annual GSP Review

The GSP regulations (15 CFR part 2007) provide the timetable for conducting an annual review, unless otherwise specified by Federal Register notice. Notice is hereby given that, in order to be considered in the 2011 Annual Review, all petitions to modify the list of articles eligible for duty-free treatment under GSP or to review the GSP status of any beneficiary developing country must be received by the GSP Subcommittee of the Trade Policy Staff Committee no later than December 5, 2011. Petitions requesting CNL waivers must be received by the GSP Subcommittee of the Trade Policy Staff Committee no later than 5 p.m. on Friday, December 16, 2011. Petitions submitted after the respective deadlines will not be considered for review. Decisions on which petitions are accepted for review, along with a schedule for any related public hearings, will be announced at a later date.

GSP Product Review Petitions

Interested parties, including foreign governments, may submit petitions to: (1) Designate additional articles as eligible for GSP benefits, including to designate articles as eligible for GSP benefits only for countries designated as least-developed beneficiary developing countries, or only for countries designated as beneficiary sub-Saharan African countries under the African Growth and Opportunity Act (AGOA); (2) withdraw, suspend or limit the application of duty-free treatment accorded under the GSP with respect to any article, either for all beneficiary developing countries, least-developed beneficiary developing countries or beneficiary sub-Saharan African countries, or for any of these countries individually; (3) waive the “competitive need limitations” for individual beneficiary developing countries with respect to specific GSP-eligible articles (these limits do not apply to least-developed beneficiary developing countries or AGOA beneficiary sub-Saharan African countries); and (4) otherwise modify GSP coverage.

As specified in 15 CFR 2007.1, all product petitions must include, inter alia, a detailed description of the product and the eight-digit subheading of the Harmonized Tariff Schedule of the United States (HTSUS) under which the product is classified.

As noted above, product petitions requesting CNL waivers for GSP-eligible articles from beneficiary developing countries that exceed the CNLs in 2011 must be received on or before the Friday, December 16, 2011, deadline described above. Before submitting petitions for CNL waivers, prospective petitioners may wish to review the year-to-date import trade data for products of interest. This data is available via the U.S. International Trade Commission's “Dataweb” database at http://dataweb.usitc.gov/.

Country Practices Review Petitions

Any interested party may submit a petition to review the GSP eligibility of any beneficiary developing country with respect to any of the designation criteria listed in sections 502(b) or 502(c) of the Trade Act (19 U.S.C. 2462(b) and (c)). As noted above, such petitions are due no later than 5 p.m. on December 5, 2011.

II. Requirements for Submissions

All submissions for the GSP Annual Review must conform to the GSP regulations set forth at 15 CFR part 2007, except as modified below. These regulations are reprinted in the “U.S. Generalized System of Preferences Guidebook” (“GSP Guidebook”), available at: http://www.ustr.gov/webfm_send/2880. The GSP Guidebook also contains general instructions on how to submit a GSP petition. Any person or party making a submission is strongly advised to review the GSP regulations and the GSP Guidebook.

Submissions in response to this notice must be submitted electronically using http://www.regulations.gov, docket number USTR-2011-0015. Hand-delivered submissions will not be accepted. Submissions must be submitted in English to the Chairman of the GSP Subcommittee of the Trade Policy Staff Committee by the applicable deadlines set forth in this notice. Submissions that do not provide the information required by sections 2007.0 and 2007.1 of the GSP regulations will not be accepted for review, except upon a detailed showing in the submission that the petitioner made a good faith effort to obtain the information required.

To ensure their most timely and expeditious receipt and consideration, petitions provided in response to this notice, including those containing business confidential information, must be submitted online at http://www.regulations.gov. To make a submission using http://www.regulations.gov, enter docket number USTR-2011-0015 in the “Enter Keyword or ID” filed on the home page and click “go.” The site will provide a search-results page listing all documents associated with this docket. Find a reference to this notice by selecting “Notice” under “Document Type” in the top-middle section of the search-results page, and click on the link entitled “Submit a Comment.” The http://www.regulations.gov Web site offers the option of providing comments by filling in a “Type Comment” field or by attaching a document using the “Upload file(s)” field. Submissions must be in English, with the total submission not to exceed 30 single-spaced standard letter-size pages in 12-point type, including attachments. Any data attachments to the submission should be included in the same file as the submission itself, and not as separate files.

Given the detailed nature of the information sought by the GSP Subcommittee, it is expected that most submissions will be in the form of an attached document. When attaching a document, please type in the “Type Comment” field the relevant eight-digit HTSUS subheading number(s) (for product petitions) or the country name (for country practice petitions), and indicate on the attachment whether the document is a “Country Practice Review Petition for [Country]” or “Product Review Petition for [HTSUS Subheading Number], [Product Name], and (if pertinent) [Country].”

Submissions must include at the beginning of the submission, or on the first page (if an attachment), the following text (in bold and underlined): (1) “2011 GSP Annual Review”; and (2) the eight-digit HTSUS subheading number in which the product is classified (for product petitions) or the name of the country (for country practice petitions), Furthermore, interested parties submitting petitions that request action with respect to specific products should also list at the beginning of the submission, or on the first page (if an attachment) the following information: (1) The requested action; and (2) if applicable, the beneficiary developing country.

Each submitter will receive a submission tracking number upon completion of the submissions procedure at http://www.regulations.gov. The tracking number will be the submitter's confirmation that the submission was received into http://www.regulations.gov. The confirmation should be kept for the submitter's records. USTR is not responsible for any delays in a submission due to technical difficulties, nor is it able to provide any technical assistance for the Web site. Documents not submitted in accordance with these instructions may not be considered in this review. If unable to provide submissions as requested, please contact the GSP Program at USTR to arrange for an alternative method of transmission.

Business Confidential Petitions

A petitioner requesting that information contained in a petition be treated as business confidential information must certify that such information is business confidential and provide an explanation as to why the information should be protected in accordance with 15 CFR 2007.7. Confidential business information must be clearly designated as such. The submission must be marked “BUSINESS CONFIDENTIAL” at the top and bottom of the cover page and each succeeding page, and the submission should indicate, via brackets, the specific information that is confidential. Additionally, “Business Confidential” must be included in the “Type Comment” field. Anyone submitting a petition containing business confidential information must also submit as a separate submission a non-confidential version of the confidential submission, indicating where confidential information has been redacted. The non-confidential version will be placed in the docket and open to public inspection.

Business confidential submissions that are submitted without the required markings, or are not accompanied by a properly marked non-confidential version, as set forth above, might not be accepted or may be considered public documents.

III. Public Viewing of Review Submissions

Submissions in response to this notice, except for information granted “business confidential” status under 15 CFR 2003.6, will be available for public viewing pursuant to 15 CFR 2007.6 at http://www.regulations.gov upon completion of processing and no later than approximately two weeks after the relevant due date. Such submissions may be viewed by entering the docket number USTR-2011-0015 in the search field at: http://www.regulations.gov.

William D. Jackson,
Deputy Assistant U.S. Trade Representative for the Generalized System of Preferences and Chair of the GSP Subcommittee of the Trade Policy Staff Committee, Office of the U.S. Trade Representative.

[FR Doc. 2011-28252 Filed 10-31-11; 8:45 am]

BILLING CODE 3190-W2-P